Title 3—

The President

Proclamation 8042 of August 25, 2006

National Alcohol and Drug Addiction Recovery Month, 2006

By the President of the United States of America

A Proclamation

Alcohol and drug abuse disrupts families, threatens the safety of our neighborhoods, and ruins the lives of countless men, women, and youth. During National Alcohol and Drug Addiction Recovery Month, we recognize the damaging effects of substance abuse and renew our support for individuals battling to overcome addiction. The theme for 2006, “Join the Voices for Recovery: Build a Stronger, Healthier Community,” urges all Americans to help prevent alcohol and drug abuse and to promote treatment and recovery options.

While drug use among youth is down since 2001, we must continue our efforts to help our next generation avoid substance abuse. This work begins with understanding that youth are less likely to engage in risky behaviors when they are connected to strong families and communities. To assist our children in learning to make healthy choices, the Helping America's Youth initiative, led by First Lady Laura Bush, is encouraging local partnerships that empower families, schools, and communities to help our young people reach their full potential.

In order to effectively battle alcohol and drug addiction, we must ensure that Americans in need can readily access services and programs. Over the past 3 years, my Administration has provided nearly $300 million for the Access to Recovery program so that individuals who desire treatment have the ability to seek the form of treatment most suitable for their needs, including assistance from faith-based and community providers. My fiscal year 2007 budget proposes to build upon the success of this initiative by providing $98 million to further expand individual choice.

My Administration is also committed to protecting our citizens and our young people from the scourge of methamphetamine. This substance is highly addictive and is a continuing and devastating threat in too many communities across our Nation. While the number of teens who have ever tried this deadly drug has decreased since 2001, we remain focused on keeping methamphetamine from reaching more Americans. Through the Access to Recovery program, $25 million will be targeted in fiscal year 2007 to help individuals recover from methamphetamine abuse. Additionally, earlier this year I signed into law the USA PATRIOT Improvement and Reauthorization Act of 2005, which increases penalties for smuggling and selling methamphetamine and introduces commonsense safeguards to make many of the ingredients used in manufacturing it harder to obtain and easier to track.

These efforts are helping in the fight against substance abuse in America, yet government action is not the only answer. We are making progress because there are millions of our fellow citizens answering the universal call to love a neighbor. To find out how to join the armies of compassion and be a part of building a stronger, healthier community, interested volunteers should visit recoverymonth.gov and usafreedomcorps.gov. By working together, we can make a difference in the life of someone in need and help fulfill the promise of a more hopeful tomorrow for generations to come.

NOW, THEREFORE, I, GEORGE W. BUSH, President of the United States of America, by virtue of the authority vested in me by the Constitution and laws of the United States, do hereby proclaim September 2006 as National Alcohol and Drug Addiction Recovery Month. I call upon the people of the United States to observe this month with appropriate programs and activities.

IN WITNESS WHEREOF, I have hereunto set my hand this twenty-fifth day of August, in the year of our Lord two thousand six, and of the Independence of the United States of America the two hundred and thirty-first.

[FR Doc. 06-7373

Filed 8-29-06; 9:10 am]

Billing code 3195-01-P